DEPARTMENT OF TRANSPORTATION

National Highway Traffic Safety Administration

Reports, Forms, and Record Keeping Requirements: Agency Information Collection Activity Under OMB Review

AGENCY: National Highway Traffic Safety Administration (NHTSA), DOT.

ACTION: Notice of the OMB review of information collection and solicitation of public comment.

SUMMARY: In compliance with the Paperwork Reduction Act of 1995, this notice announces that the Information Collection Request (ICR) abstracted below will be submitted to the Office of Management and Budget (OMB) for review. The ICR describes the nature of the information collection and its expected burden. A Federal Register Notice with a 60-day comment period soliciting public comments on the following information collection was published on July 27, 2017.

DATES: Submit comments to the Office of Management and Budget (OMB) on or before April 9, 2018.

FOR FURTHER INFORMATION CONTACT: Randolph Atkins at the National Highway Traffic Safety Administration, Office of Behavioral Safety Research (NTI-131), W46-500, Department of Transportation, 1200 New Jersey Avenue SE, Washington, DC 20590. Dr. Atkins' phone number is 202-366-5597 and his email address is randolph.atkins@dot.gov

SUPPLEMENTARY INFORMATION:

OMB Control Number: 2127—New.

Title: Effectiveness of State Law Enforcement Liaison Programs.

Form No.: NHTSA Form 1408 and NHTSA Form 1409.

Type of Review: Regular.

Respondents: NHTSA proposes to conduct two one-time surveys. The first survey will include all the State Law Enforcement Liaisons (LELs) across the country. The second survey will include the LELs' supervisors from their sponsoring agencies in the 49 States that use LELs, either State Highway Safety Office (SHSO) or other sponsoring agency personnel.

Estimated Number of Respondents: There are approximately 240 State LELs and 49 staff from the sponsoring agencies that supervise the LELs—a total of 289 respondents.

Estimated Time per Response: There are two survey questionnaires of equal length, one for LELs and one for their supervisors. The average amount of time for each respondent to complete the on-line information collection is estimated at 45 minutes. This includes any time needed to retrieve information.

Total Estimated Annual Burden Hours: 217 hours.

Frequency of Collection: The information collection will be administered a single time.

Abstract: State Law Enforcement Liaisons (LELs) promote NHTSA's traffic safety programs and initiatives. The way LELs are organized and carry out their mission varies widely across States. NHTSA proposes to collect information from LELs and their State and/or sponsoring agencies to improve NHTSA's understanding of LEL programs in the United States and to evaluate the programmatic and cost effectiveness of existing LEL approaches. The study will use online website-based surveys designed to identify their program characteristics, costs, and State-recommended program practices. The following data will be collected: Number of LELs, program structure and organization, job description, program objectives, reporting requirements, performance monitoring practices, program costs, communication networks, reported usefulness of specific program practices, site and conference attendance practices, and public outreach activities. Study outcomes will be used to inform funding agencies and LEL programs about LEL best practices and what is required to maintain maximum LEL program effectiveness. The information will support States and other agencies and organizations in their efforts to reduce and prevent injuries among the motoring public using traffic safety programs promoted by the LELs.

ADDRESSES: Send comments regarding the burden estimate, including suggestions for reducing the burden, to the Office of Information and Regulatory Affairs, Office of Management and Budget, 725 17th Street NW, Washington, DC 20503, Attention: Desk Officer for Department of Transportation, National Highway Traffic Safety Administration, or by email at oira_submission@omb.eop.gov, or fax: 202-395-5806.

Comments are Invited on: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication of this notice.

Authority: 44 U.S.C. Section 3506(c)(2)(A).

Issued in Washington, DC, on March 6, 2018.
Jeff Michael,
Associate Administrator, Research and Program Development.

[FR Doc. 2018-04751 Filed 3-8-18; 8:45 am]

BILLING CODE 4910-59-P